DEPARTMENT OF HOUSING AND URBAN DEVELOPMENT

[Docket No. FR-5186-N-06]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Headquarters, Department of the Army, Office of the Assistant Chief of Staff for Installation Management, Attn: DAIM-ZS, Rm 8536, 2511 Jefferson Davis Hwy., Arlington, VA 22202; (703) 601-2545; Coast Guard: Commandant, United States Coast Guard, Attn: Teresa Sheinberg, 2100 Second St., SW., Rm 6109, Washington, DC 20593-0001; (202) 267-6142; Commerce: Mr. Lance Feiner, Acting Director, Department of Commerce, Office of Real Estate, 14th & Constitution Ave., NW., Rm. 1036, Washington, DC 20230; (202) 482-3580; Energy: Mr. John Watson, Department of Energy, Office of Engineering & Construction Management, ME-90, 1000 Independence Ave., SW., Washington, DC 20585: (202) 586-0072; GSA: Mr. John Smith, Deputy Assistant Commissioner, General Services Administration, Office of Property Disposal, 18th & F Streets, NW., Washington, DC 20405; (202) 501-0084; Navy: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: January 31 2008.
Mark R. Johnston,
Deputy Assistant Secretary for Special Needs.

Title V, Federal Surplus Property Program Federal Register Report for 02/08/2008

Suitable/Available Properties

Building

Georgia

Bldg. 0297

Ft. Benning

Chattahoochie, GA 31905

Landholding Agency: Army

Property Number: 21200810045

Status: Excess

Comments: 4839 sq. ft., most recent use—riding stable, off-site use only

Bldg. 3819

Ft. Benning

Chattahoochie, GA 31905

Landholding Agency: Army

Property Number: 21200810046

Status: Excess

Comments: 4241 sq. ft., most recent use—training, off-site use only

Bldg. 10802

Ft. Benning

Chattahoochie GA 31905

Landholding Agency: Army

Property Number: 21200810047

Status: Excess

Comments: 3182 sq. ft., most recent use—storage, off-site use only

Suitable/Available Properties

Building

Texas

4 Bldgs.

Fort Hood

Bell, TX 76544

Landholding Agency: Army

Property Number: 21200810048

Status: Unutilized

Directions: 00229, 00230, 00231, 00232

Comments: Various sq. ft., presence of asbestos, most recent use—training aids center, off-site use only

Bldg. 00324

Fort Hood

Bell, TX 76544

Landholding Agency: Army

Property Number: 21200810049

Status: Unutilized

Comments: 13,319 sq. ft., most recent use—roller skating rink, off-site use only

Bldgs. 00710, 00739, 00741

Fort Hood

Bell, TX 76544

Landholding Agency: Army

Property Number: 21200810050

Status: Unutilized

Comments: Various sq. ft., presence of asbestos, most recent use—repair shop, off-site use only

Suitable/Available Properties

Building

Texas

5 Bldgs.

Fort Hood

Bell, TX 76544

Landholding Agency: Army

Property Number: 21200810051

Status: Unutilized

Directions: 00711, 00712, 02219, 02612, 05780

Comments: Various sq. ft., presence of asbestos, most recent use—storage, off-site use only

Bldg. 00713

Fort Hood

Bell, TX 76544

Landholding Agency: Army

Property Number: 21200810052

Status: Unutilized

Comments: 3200 sq. ft., presence of asbestos, most recent use—hdqts. bldg., off-site use only

Bldgs. 1938, 04229

Fort Hood

Bell, TX 76544

Landholding Agency: Army

Property Number: 21200810053

Status: Unutilized

Comments: 2736/9000 sq. ft., presence of asbestos, most recent use—admin., off-site use only

Suitable/Available Properties

Building

Texas

Bldgs. 02218, 02220

Fort Hood

Bell, TX 76544

Landholding Agency: Army

Property Number: 21200810054

Status: Unutilized

Comments: 7289/1456 sq. ft., presence of asbestos, most recent use—museum, off-site use only

Bldg. 0350

Fort Hood

Bell, TX 76544

Landholding Agency: Army

Property Number: 21200810055

Status: Unutilized

Comments: 28,290 sq. ft., presence of asbestos, most recent use—veh. maint. shop, off-site use only

Bldg. 04449

Fort Hood

Bell, TX 76544

Landholding Agency: Army

Property Number: 21200810056

Status: Unutilized

Comments: 3822 sq. ft., most recent use—police station, off-site use only

Suitable/Available Properties

Building

Texas

Bldg. 91077

Fort Hood

Bell, TX 76544

Landholding Agency: Army

Property Number: 2120081005

Status: Unutilized

Comments: 3200 sq. ft., presence of asbestos, most recent use—educational facility, off-site use only

Summary for Suitable/Available Properties

Total number of Properties = 24

Unsuitable Properties

Building

Alabama

Bldg. 01407

Redstone Arsenal

Madison, AL 35898

Landholding Agency: Army

Property Number: 21200810002

Status: Unutilized

Reasons: Extensive deterioration

Unsuitable Properties

Building

California

March Water Annex 2

Perris, CA

Landholding Agency: GSA

Property Number: 54200810004

Status: Excess

GSA Number: 9-D-CA-1211

Reasons: Within airport runway clear zone

4 Bldgs.

Marine Corps Base

41312, 53426, 53427, 53430

Camp Pendleton, CA 92055

Landholding Agency: Navy

Property Number: 77200810008

Status: Excess

Reasons: Extensive deterioration. Secured Area.

Florida

Bldgs. C5, A329

Naval Air Station

Key West, FL 33040

Landholding Agency: Navy

Property Number: 77200810007

Status: Excess

Reasons: Extensive deterioration. Secured Area

Unsuitable Properties

Building

Georgia

Bldg. 00902

Fort Gillem

Forest Park, GA

Landholding Agency: Army

Property Number: 21200810003

Status: Unutilized

Reasons: Secured Area

Hawaii

Bldg. 2132

Schofield Barracks

Wahiawa, HI 96786

Landholding Agency: Army

Property Number: 21200810004

Status: Underutilized

Reasons: Secured Area

Bldgs. B2132, C2132, 02142

Schofield Barracks

Wahiawa, HI 96786

Landholding Agency: Army

Property Number: 21200810005

Status: Underutilized

Reasons: Secured Area

Bldgs. 02138, 02140, A2144

Schofield Barracks

Wahiawa, HI 96786

Landholding Agency: Army

Property Number: 21200810006

Status: Underutilized

Reasons: Secured Area

Unsuitable Properties

Building

Idaho

Bldg. 00110

Wilder

Canyon, ID 83676

Landholding Agency: Army

Property Number: 21200810009

Status: Unutilized

Reasons: Secured Area

Iowa

Bldgs. 00013, C0847

Iowa Army Ammo Plant

Middletown, IA 52601

Landholding Agency: Army

Property Number: 21200810008

Status: Unutilized

Reasons: Secured Area. Within 2000 ft. of flammable or explosive material

Kentucky

4 Bldgs.

Fort Campbell

Christian, KY 42223

Landholding Agency: Army

Property Number: 21200810010

Status: Underutilized

Directions: 06256, 06258, 06266, 06268

Reasons: Secured Area

Unsuitable Properties

Building

Maryland

Bldgs. 00505, 01047

Aberdeen Proving Ground

Harford, MD 21005

Landholding Agency: Army

Property Number: 21200810011

Status: Unutilized

Reasons: Secured Area

Bldgs. E1407, E1417, E1452

Aberdeen Proving Ground

Harford, MD 21005

Landholding Agency: Army

Property Number: 21200810012

Status: Unutilized

Reasons: Secured Area

7 Bldgs.

Aberdeen Proving Ground

Harford, MD 21005

Landholding Agency: Army

Property Number: 21200810013

Status: Unutilized

Directions: E3007, E3221, E3222, E3223, E3224, E3226, E3228

Reasons: Secured Area

Unsuitable Properties

Building

Maryland

Bldgs. E3236, E3268, E3850

Aberdeen Proving Ground

Harford, MD 21005

Landholding Agency: Army

Property Number: 21200810014

Status: Unutilized

Reasons: Secured Area

Bldgs. E4060, E4440

Aberdeen Proving Ground

Harford, MD 21005

Landholding Agency: Army

Property Number: 21200810015

Status: Unutilized

Reasons: Secured Area

6 Bldgs.

Aberdeen Proving Ground

Harford, MD 21005

Landholding Agency: Army

Property Number: 21200810016

Status: Unutilized

Directions: E5695, E5770, E5771, E5772, E5774, E5778

Reasons: Secured Area

Unsuitable Properties

Building

Maryland

Bldgs. E5897, E5913, E5914

Aberdeen Proving Ground

Harford, MD 21005

Landholding Agency: Army

Property Number: 21200810017

Status: Unutilized

Reasons: Secured Area

Bldgs. E6892, E7012, E7822

Aberdeen Proving Ground

Harford, MD 21005

Landholding Agency: Army

Property Number: 21200810018

Status: Unutilized

Reasons: Secured Area

Bldg. 00940

Fort Detrick

Frederick, MD 21702

Landholding Agency: Army

Property Number: 21200810019

Status: Unutilized

Reasons: Secured Area

Unsuitable Properties

Building

New Jersey

Bldg. 448

Picatinny Arsenal

Dover, NJ 07806

Landholding Agency: Army

Property Number: 21200810020

Status: Unutilized

Reasons: Within 2000 ft. of flammable or explosive material. Secured Area

Bldg. 0690

Fort Dix

Burlington, NJ 08640

Landholding Agency: Army

Property Number: 21200810021

Status: Unutilized

Reasons: Extensive deterioration

Bldgs. S3132, S3133, S3134

Fort Dix

Burlington, NJ 08640

Landholding Agency: Army

Property Number: 21200810022

Status: Unutilized

Reasons: Extensive deterioration

Bldg. 7427

Fort Dix

Burlington, NJ 08640

Landholding Agency: Army

Property Number: 21200810023

Status: Unutilized

Reasons: Extensive deterioration

Unsuitable Properties

Building

New Jersey

Tower (TS1)

USCG Station

Atlantic City, NJ 08401

Landholding Agency: Coast Guard

Property Number: 88200810001

Status: Unutilized

Reasons: Secured Area. Extensive deterioration

New Mexico

Bldgs. 00122, 00160

White Sands Missile Range

Dona Ana, NM 88002

Landholding Agency: Army

Property Number: 21200810024

Status: Excess

Reasons: Secured Area. Extensive deterioration

4 Bldgs.

White Sands Missile Range

Dona Ana, NM 88002

Landholding Agency: Army

Property Number: 21200810025

Status: Excess

Directions: 00360, 00362, 00364, 00368

Reasons: Extensive deterioration. Secured Area

Unsuitable Properties

Building

New Mexico

Bldg. 00421

White Sands Missile Range

Dona Ana, NM 88002

Landholding Agency: Army

Property Number: 21200810026

Status: Excess

Reasons: Extensive deterioration. Secured Area

5 Bldgs.

White Sands Missile Range

Dona Ana, NM 88002

Landholding Agency: Army

Property Number: 21200810027

Status: Excess

Directions: 20552, 20854, 21610, 21860, 21862

Reasons: Extensive deterioration. Secured Area

Bldgs. 23680, 24064, 26117

White Sands Missile Range

Dona Ana, NM 88002

Landholding Agency: Army

Property Number: 21200810028

Status: Excess

Reasons: Secured Area. Extensive deterioration

Unsuitable Properties

Building

New Mexico

Bldgs. 30722, 30724, 30735

White Sands Missile Range

Dona Ana, NM 88002

Landholding Agency: Army

Property Number: 21200810029

Status: Excess

Reasons: Extensive deterioration. Secured Area

Bldg. 6502

Sandia National Lab

Albuquerque, NM 87185

Landholding Agency: Energy

Property Number: 41200810002

Status: Unutilized

Reasons: Secured Area. Extensive deterioration

New York

Bldgs. 01243, 01276

U.S. Army Garrison

Orange, NY 10996

Landholding Agency: Army

Property Number: 21200810030

Status: Unutilized

Reasons: Extensive deterioration

Unsuitable Properties

Building

North Carolina

Bldg/1150 sq. ft.

Natl Ocean Service Center

Beaufort, NC 28516

Landholding Agency: Commerce

Property Number: 27200810001

Status: Unutilized

Reasons: Extensive deterioration. Floodway

Bldg/988 sq. ft.

Natl Ocean Service Center

Beaufort, NC 28516

Landholding Agency: Commerce

Property Number: 27200810002

Status: Unutilized

Reasons: Extensive deterioration. Floodway

Samoa

Bldg. 00002

Army Reserve Center

Pago Pago, AQ 96799

Landholding Agency: Army

Property Number: 21200810001

Status: Unutilized

Reasons: Floodway. Secured Area

Unsuitable Properties

Building

South Carolina

Bldg. M2617

Fort Jackson

Richland, SC 29207

Landholding Agency: Army

Property Number: 21200810031

Status: Unutilized

Reasons: Secured Area

Texas

6 Bldgs.

Fort Bliss

El Paso, TX 79916

Landholding Agency: Army

Property Number: 21200810032

Status: Unutilized

Directions: 2031, 2034, 9906, 9907, 11200, 11201

Reasons: Extensive deterioration

Bldgs. 56145, 56208, 56220

Fort Hood

Bell, TX 76544

Landholding Agency: Army

Property Number: 21200810033

Status: Excess

Reasons: Extensive deterioration

Unsuitable Properties

Building

Texas

Bldg. 00002

Denton

Lewisville, TX 76102

Landholding Agency: Army

Property Number: 21200810034

Status: Unutilized

Reasons: Extensive deterioration

Virginia

Bldgs. P3510, P3515

Fort Eustis

Ft. Eustis, VA 23604

Landholding Agency: Army

Property Number: 21200810035

Status: Unutilized

Reasons: Extensive deterioration

Bldg. 412

Fort Myer

Ft. Myer, VA 22211

Landholding Agency: Army

Property Number: 21200810036

Status: Excess

Reasons: Secured Area

Unsuitable Properties

Building

Virginia

4 Bldgs.

Fort Story

Ft. Story, VA 23459

Landholding Agency: Army

Property Number: 21200810037

Status: Unutilized

Directions: T0540, T0750, T0753, T0762

Reasons: Extensive deterioration

Bldg. 01335

Fort A.P. Hill

Bowling Green, VA 22427

Landholding Agency: Army

Property Number: 21200810038

Status: Unutilized

Reasons: Extensive deterioration

Bldgs. 6259, 6287

Fort Lee

Prince George, VA 23801

Landholding Agency: Army

Property Number: 21200810039

Status: Unutilized

Reasons: Extensive deterioration

Unsuitable Properties

Building

Virginia

4 Bldgs.

Fort Lee

7015, 7016, 7017, 7118

Prince George, VA 23801

Landholding Agency: Army

Property Number: 21200810040

Status: Unutilized

Reasons: Extensive deterioration

Bldg. 00051

Defense Supply Center

Richmond, VA 23297

Landholding Agency: Army

Property Number: 21200810041

Status: Unutilized

Reasons: Extensive deterioration. Secured Area

Bldgs. 01140, 01154

Fort Belvoir

Fairfax, VA 22060

Landholding Agency: Army

Property Number: 21200810042

Status: Unutilized

Reasons: Extensive deterioration

Unsuitable Properties

Building

Virginia

Bldgs. 05015, 05021

Fort Belvoir

Fairfax, VA 22060

Landholding Agency: Army

Property Number: 21200810043

Status: Unutilized

Reasons: Extensive deterioration

Wisconsin

Bldg. 05007

Fort McCoy

Monroe, WI 54656

Landholding Agency: Army

Property Number: 21200810044

Status: Unutilized

Reasons: Extensive deterioration.

[FR Doc. E8-2090 Filed 2-7-08; 8:45 am]

BILLING CODE 4210-67-P